NUCLEAR REGULATORY COMMISSION

[Docket No. 72-20]

Department of Energy; Three Mile Island 2 Independent Spent Fuel Storage Installation; Notice of Docketing of Materials License SNM-2508 Amendment Application

AGENCY: Nuclear Regulatory Commission.

ACTION: License Amendment.

FOR FURTHER INFORMATION CONTACT: Joseph M. Sebrosky, Senior Project Manager, Spent Fuel Project Office, Office of Nuclear Material Safety and Safeguards, U.S. Nuclear Regulatory Commission, Washington, DC 20555. Telephone: (301) 415-1132; fax number: (301) 415-1179; e-mail: jms3@nrc.gov.

SUPPLEMENTARY INFORMATION: By letter dated January 31, 2005, the Department of Energy (DOE or licensee) submitted an application to the U.S. Nuclear Regulatory Commission (NRC or the Commission), in accordance with Title 10 of the Code of Federal Regulations (10 CFR) 72.56, requesting the amendment of the Three Mile Island 2 (TMI-2) Independent Spent Fuel Storage Installation (ISFSI) license for the ISFSI located in Butte County, Idaho. DOE proposes to change the technical specification corrective actions if the 5 year leak test of the dry shielded canisters fails.

This application was docketed under 10 CFR part 72; the ISFSI Docket No. is 72-20 and will remain the same for this action. Upon approval of the Commission, the TMI-2 ISFSI license, SNM-2508, would be amended to allow this action.

The Commission may issue either a notice of hearing or a notice of proposed action and opportunity for hearing in accordance with 10 CFR 72.46(b)(1) regarding the proposed amendment or, if a determination is made that the proposed amendment does not present a genuine issue as to whether public health and safety will be significantly affected, take immediate action on the proposed amendment in accordance with 10 CFR 72.46(b)(2) and provide notice of the action taken and an opportunity for interested persons to request a hearing on whether the action should be rescinded or modified.

For further details with respect to this amendment, see the application dated January 31, 2005, which is publically available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, (301) 415-4737 or by email to pdr@nrc.gov.

Dated at Rockville, Maryland, this 15th day of March 2005.
For the Nuclear Regulatory Commission.
John D. Monninger,
Chief, Licensing Section, Spent Fuel Project Office, Office of Nuclear Material Safety and Safeguards.

[FR Doc. 05-5681 Filed 3-22-05; 8:45 am]

BILLING CODE 7590-01-P